DEPARTMENT OF DEFENSE

Department of the Navy

Notice of Intent To Grant a Partially Exclusive Patent License; Signal Laboratories, Inc.

AGENCY: Department of the Navy, DoD.

ACTION: Notice.

SUMMARY: The Department of the Navy hereby gives notice of its intent to grant to Signal Laboratories, Inc., a revocable, nonassignable, partially exclusive license to practice worldwide the Government-owned inventions described in U.S. Patent No. 5,627,521 issued on May 6, 1997, entitled “Personal Microwave and Radio Frequency Detector”.

DATES: Anyone wishing to object to the grant of this license must file written objections along with supporting evidence, if any, not later than May 18, 2009.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone Number: 301-319-7428 or e-mail at charles.schlagel@med.navy.mil.

Dated: April 27, 2009.
A.M. Vallandingham,
Lieutenant Commander, Judge Advocate General's Corps, U.S. Navy, Federal Register Liaison Officer.

[FR Doc. E9-10030 Filed 4-30-09; 8:45 am]

BILLING CODE 3810-FF-P